DEPARTMENT OF TRANSPORTATION

Office of the Secretary

Privacy Act of 1974: System of Records

AGENCY: Department of Transportation, Office of the Secretary.

ACTION: Notice to establish a system of records.

SUMMARY: DOT proposes to establish a new system of records under the Privacy Act of 1974.

EFFECTIVE DATE: December 8, 2004. If no comments are received, the proposal will become effective on the above date. If comments are received, the comments will be considered and, where adopted, the documents will be republished with changes.

ADDRESSES: Address all comments concerning this notice to Yvonne L. Coates, Department of Transportation, Office of the Secretary, 400 7th Street, SW., Washington, DC 20590, (202) 366-6964 (telephone), (202) 366-7024 (fax) Yvonne.Coates@ost.dot.gov (Internet address).

FOR FURTHER INFORMATION CONTACT: Theresa Rowlett, (202) 385-2323, Chief, Business Information and Operations Division, Federal Motor Carrier Safety Administration.

SUPPLEMENTARY INFORMATION: The Department of Transportation system of records notices subject to the Privacy Act of 1974 (5 U.S.C. 552a), as amended, have been published in the Federal Register and are available from the above mentioned address.

System number:

DOT/FMCSA 04.

System name:

Safety Violation and Consumer Complaint Safety Hotline Database.

Security classification:

Unclassified, sensitive.

System location:

The system is located at the Computing Technology, Inc. (CoTs), 3028 Javier Road, Suite 400, Fairfax, Virginia. The office is under the direction and supervision of the Office of Communications (MC-CM), Federal Motor Carrier Safety Administration (FMCSA).

Categories of individuals covered by the system of records:

Individuals who have filed Safety and/or Commercial complaints. Complaints filed are the results of alleged violations of safety and/or commercial regulations. The majority of commercial complaints filed are against household goods (HHG) movers.

Categories of records in the system:

Records and reports in this system may include:

1. HHG commercial complaints

2. Acknowledgement letter to complainant

3. Notification letter to carrier

4. Commercial HHG press release setup

5. HHG carrier complaint history

6. HHG complaints searches (DOT#, MC#, State, Tracking#, Complainant, Respondent, Date)

7. Safety violations reports

8. Safety violations and commercial report generator

Authority for maintenance of the system:

49 U.S.C. 314104, 49 U.S.C. 14702.

Purposes:

The system has multiple purposes. First, the data collected will provide FMCSA with statistical information regarding commercial motor carriers, in particular the household goods moving industry. Using this information, FMCSA will target motor carriers with high levels of complaints for enforcement actions. The information will be used to promote compliance with Federal Motor Carrier Safety and Commercial Regulations. In addition, this statistical information will be used to develop guidance and direction for the general public—identifying the most common problems and the means to avoid them. This information will also be used to develop and maintain a list of problem movers. This information will be made public so that consumers can avoid using these problem companies.

Lastly, this information will be used, at the complainant's discretion, to assist in reconciling complaints. The mover will be informed of the complaint and will be encouraged to resolve the issue with the complainant.

Routine uses of records maintained in the system, including categories of users and the purposes of such uses:

See Prefatory Notice of General Routine Uses.

Disclosure to consumer reporting agencies:

Not applicable.

Policies and practices for storing, retrieving, accessing, retaining, and disposing of records in the system:

Storage:

The data within the Safety Violation and Consumer Household Goods Complaint Hotline database is stored within a Microsoft Access 2000 database. Direct access to the database from the Internet is protected and blocked via our multi-layering architecture. Access to the data is protected by using username and password authentication of only FMCSA approved users. Usernames and passwords follow the DOT standards for creation and refreshing periods of 90 days. The communication during user authentication and throughout the authorized user's access to the website and database is encrypted using 128-Bit Secure Socket Layer (SSL).

Files are stored at Computing Technology, Inc. (CoTs), 3028 Javier Road, Suite 400, Fairfax, Virginia. Back up copies of this information are stored at FMCSA's offices at 400 Virginia Avenue, SW., Suite 340, Washington, DC.

Retrievability:

Records are maintained and retrieved by the following: complainant name, respondent name, secondary respondent name, motor carrier number, DOT number, tracking number, date, and state.

Safeguards:

To safeguard against the risk of unauthorized disclosure, CoTs maintains the information at secured facilities in limited access areas. The data on the systems are software-protected by passwords. There are also nightly backups to protect the database. CoTs limits access to the system to designated authorized personnel.

Retention and disposal:

The complaint files are retained at CoTs by the system administrator. All files received by the Safety Violations and Commercial Consumer Hotline are retained in compliance with agency records control schedules. Complaints received by mail from FMCSA are recorded to the online database and returned to FMCSA. CoTs complies with all requirements of the National Archives and Records Administration (NARA) relative to records retention and control. NARA regulations indicate that electronic files created to monitor system usage are authorized for erasure or deletion when the agency determines that they are no longer needed for administrative, legal, audit, or other operational purposes.

Manager(s) and address:

Federal Motor Carrier Safety Administration, Office of Communications, 400 7th Street, SW., (MC-CM), Washington, DC 20590

Notification procedure:

Federal Motor Carrier Safety Administration, Business Information and Operations Division, 400 7th Street, SW., MC-MBI, Washington, DC 20590

Record access procedures:

Federal Motor Carrier Safety Administration, Office of Communications, 400 7th Street, SW., (MC-CM), Washington, DC 20590.

Contesting record procedures:

Federal Motor Carrier Safety Administration, Business Information and Operations Division, 400 7th Street, SW., MC-MBI, Washington, DC 20590.

Record source categories:

Consumers, motor carriers and brokers.

Exemptions claimed for the system:

None.

Dated: October 25, 2004.
Yvonne L. Coates,
Privacy Act Coordinator.

[FR Doc. 04-24253 Filed 10-28-04; 8:45 am]

BILLING CODE 4910-62-P